FEDERAL COMMUNICATIONS COMMISSION

[CG Docket No. 10-51; FCC 10-111]

Structure and Practices of the Video Relay Service Program

Correction

In notice document 10-17575 beginning on page 41863, in the issue of Monday, July 19, 2010 make the following correction:

On page 41863, in the third column, under the DATES heading “August 3, 2010” should read “September 2, 2010”.

[FR Doc. C1-2010-17575 Filed 7-29-10; 8:45 am]

BILLING CODE 1505-01-D